DEPARTMENT OF ENERGY

Federal Energy Regulatory Commission

[Docket Nos. ER04-509-000, ER04-509-001, ER04-509-002, ER04-509-003, ER04-509-004, ER04-1250-000, ER04-1250-001, ER04-1250-002, ER04-1250-003, and EL05-62-000]

Delmarva Power & Light Company; PJM Interconnection, LLC; Notice of Initiation of Proceeding and Refund Effective Date

February 28, 2005.

On February 25, 2005, the Commission issued an order in the above-referenced dockets initiating a proceeding in Docket No. EL05-62-000 under section 206 of the Federal Power Act. 110 FERC ¶ 61,186 (2005).

The refund effective date in Docket No. EL05-62-000, established pursuant to section 206 of the Federal Power Act, will be 60 days following publication of this notice in the Federal Register.

Magalie R. Salas,
Secretary.

[FR Doc. E5-911 Filed 3-4-05; 8:45 am]

BILLING CODE 6717-01-P